DEPARTMENT OF VETERANS AFFAIRS

Advisory Committee on Women Veterans, Notice of Meeting, Amended

The Department of Veterans Affairs (VA) gives notice under the Federal Advisory Committee Act, 5 U.S.C. App. 2., that the Advisory Committee on Women Veterans will conduct a virtual site visit on September 21-24, 2020, with the Veterans Integrated Service Network (VISN) 22: Desert Pacific Healthcare Network and the Southern Arizona VA Health Care System (SAVAHCS) in Tucson, AZ.

Date | Time | Location
September 21, 2020 | 8:30 a.m.-3:45 p.m. (Pacific Standard Time-PST) | See WebEx link and call-in information below.
September 22, 2020 | 8:30 a.m.-2:00 p.m. (PST) | See WebEx link and call-in information below.
September 23, 2020 | 8:00 a.m.-3:45 p.m. (PST) | See WebEx link and call-in information below.
September 24, 2020 | 8:30 a.m.-9:30 a.m. (PST) | See WebEx link and call-in information below.

The purpose of the Committee is to advise the Secretary of Veterans Affairs regarding the needs of women Veterans with respect to health care, rehabilitation, compensation, outreach and other programs and activities administered by VA designed to meet such needs. The Committee makes recommendations to the Secretary regarding such programs and activities.

On Monday, September 21, the agenda includes briefings on: VISN 22 facilities/programs/demographics; VISN 22 women Veterans services; SAVAHCS and its strategic partnerships; Phoenix Regional Office and the National Cemetery Phoenix National Cemetery of Arizona; readjustment counseling; the Arizona Department of Veteran Services and how it collaborates with VA; Veteran Justice Office; and a virtual tour.

On Tuesday, September 22, the agenda includes briefings on: The Office of Tribal and Government Relations; SAVAHCS's Native American Veterans Program and Indian Health Services sharing Agreements; SAVAHCS's women health program; primary care community based outpatient clinics; SAVAHCS's health care training programs; the breast and cervical cancer screening program; maternity care; and gynecology. From 2:30 p.m.-4:00 p.m., the Committee will observe a women Veterans town hall meeting for women Veterans in Arizona, hosted by the SAVAHCS.

On Wednesday, September 23, the agenda includes briefings on: Mental health services; health care for homeless Veterans; inpatient services; telehealth; research and medical affiliations; whole health; THRIVE; SAVAHCS's Comprehensive Compensation and Pension program; rural health; LGB and transgender program; prosthetic services; and the Transition Care Management program. On Thursday, September 24, the committee will conduct an out-briefing with leadership from SAVAHCS. The meeting sessions and town hall meeting are open to the public.

No time will be allocated at this meeting for receiving oral presentations from the public. Interested parties should provide written comments for review by the Committee to Ms. Shannon L. Middleton at 00W@mail.va.gov. Any member of the public who wishes to participate in the virtual site visit may use the following WebEx link (for September 21-23 only): https://veteransaffairs.WebEx.com/webappng/sites/veteransaffairs/meeting/download/236670d5436a47bc95047e1bb8f45ae5?siteurl=veteransaffairs&MTID=mafac92e107678c58f9c9abdb003b0d5a. Meeting number (access code): 199 257 9839; meeting password: CZyzrUe*633. To join by phone: 1-404-397-1596; code: 1992579839##.

For September 24 (only), please use: https://veteransaffairs.WebEx.com/webappng/sites/veteransaffairs/meeting/download/244e7a4df0ce4c1ea406615b409796f7?siteurl=veteransaffairs&MTID=m8df485138357baa5bcede9e6e8fab356. Meeting number (access code): 199 156 9644; meeting password: wU3DhjRV$77. To join by phone: 1-404-397-1596; code: 1991569644##.

Dated: August 20, 2020.
Jelessa M. Burney,
Federal Advisory Committee Management Officer.

[FR Doc. 2020-18656 Filed 8-24-20; 8:45 am]

BILLING CODE 8320-01-P